DEPARTMENT OF LABOR

Employment and Training Administration

[TA-W-82,663]

Belden, Inc.; Including On-Site Leased Workers From Adecco Horseheads, New York; Notice of Revised Determination on Reconsideration

The initial investigation, instituted on April 18, 2013, resulted in a negative determination, issued on June 14, 2013, that was based on the Department's finding of no shift in production by Belden, Inc., Horseheads, New York (subject firm) to a foreign country and neither subject firm nor customer imports. The Department's Notice of negative determination was published in the Federal Register on July 2, 2013 (78 FR 39776).

Workers of the subject firm are engaged in activity related to the production and assembly of coaxial cable connectors and parts, and are not separately identifiable by article produced. The worker group includes on-site leased workers from Adecco.

During the reconsideration investigation, the Department confirmed previously-submitted information and received new information which revealed that the subject firm shifted to a foreign country a portion of the production of articles like or directly competitive with the coaxial cable connectors and parts produced at the subject firm.

Conclusion

After careful review of the additional facts obtained during the reconsideration investigation, I determine that workers of Belden, Inc., Horseheads, New York, who are/were engaged in employment related to the production of coaxial cable connectors and parts, meet the worker group certification criteria under Section 222(a) of the Act, 19 U.S.C. 2272(a). In accordance with Section 223 of the Act, 19 U.S.C. 2273, I make the following certification:

“All workers of Belden, Inc., including on-site leased workers from Adecco, Horseheads, New York, who became totally or partially separated from employment on or after April 16, 2012, through two years from the date of this certification, and all workers in the group threatened with total or partial separation from employment on date of certification through two years from the date of certification, are eligible to apply for adjustment assistance under Chapter 2 of Title II of the Trade Act of 1974, as amended.”

Signed in Washington, DC, this 26th day of December, 2013.
Michael W. Jaffe,
Certifying Officer, Office of Trade Adjustment Assistance.

[FR Doc. 2014-00186 Filed 1-9-14; 8:45 am]

BILLING CODE 4510-FN-P